DEPARTMENT OF DEFENSE

Office of the Secretary

[Docket ID DOD-2011-OS-0138]

Privacy Act of 1974; System of Records

AGENCY: Defense Logistics Agency, Department of Defense (DoD).

ACTION: Notice to amend a system of records.

SUMMARY: The Defense Logistics Agency is proposing to amend a system of records notice in its existing inventory of record systems subject to the Privacy Act of 1974 (5 U.S.C. 552a), as amended.

DATES: The proposed action will be effective without further notice on December 29, 2011 unless comments are received which would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency's system of record notices subject to the Privacy Act of 1974 (5 U.S.C. 552a), as amended, have been published in the Federal Register and are available from the address in FOR FURTHER INFORMATION CONTACT.

The specific changes to the record system being amended are set forth below followed by the notice, as amended, published in its entirety. The proposed amendment is not within the purview of subsection (r) of the Privacy Act of 1974 (5 U.S.C. 552a), as amended, which requires the submission of new or altered systems reports.

Dated: November 22, 2011.
Aaron Siegel,
Alternate OSD Federal Register Liaison Officer, Department of Defense.

S375.20

System name:

Employee Relations under Negotiated Grievance Procedures (August 7, 2009, 74 FR 39649).

Changes:

* * * * *

System location:

Delete second, third, and fourth paragraphs and replace with “Defense Logistics Agency Human Resources Services, 3990 East Broad Street, Building 11, Section 3, Columbus, OH 43213-0919.

Defense Logistics Agency Human Resources Services, 2001 Mission Drive, Suite 3, New Cumberland, PA 17070-5042.

Defense Logistics Agency Human Resources Services-Department of Defense Customers, 3990 East Broad Street, Building 306, Columbus, OH 43218-1158.”

* * * * *

Categories of records in the system:

Delete first paragraph and replace with “The file includes the subject individual's name, address and telephone numbers, and details pertaining to the discipline, grievance, complaint, or appeal.”

* * * * *

Routine uses of records maintained in the system, including categories of users and the purposes of such uses:

Delete third paragraph and replace with “To appeal authorities for conducting hearings in connection with employee appeals from adverse actions and formal discrimination complaints.”

* * * * *

System manager(s) and address:

Delete entry and replace with “Director, Defense Logistics Agency Human Resources, 8725 John J. Kingman Road, Suite 3630, Fort Belvoir, VA 22060-6221.

Director, Defense Logistics Agency Human Resources Services, 3990 East Broad Street, Building 11, Section 3, Columbus, OH 43213-0919.

Director, Defense Logistics Agency Human Resources Services, 2001 Mission Drive, Suite 3, New Cumberland, PA 17070-5042.

Director, Defense Logistics Agency Human Resources Services-Department of Defense Customers, 3990 East Broad Street, Building 306, Columbus, OH 43218-1158.”

Notification procedure:

Delete entry and replace with “Individuals seeking to determine whether information about themselves is contained in this system of records should address written inquiries to the DLA FOIA/Privacy Act Office, Headquarters, Defense Logistics Agency, ATTN: DGA, 8725 John J. Kingman Road, Suite 1644, Fort Belvoir, VA 22060-6221.

Inquiry should contain the subject individual's full name.”

Record access procedures:

Delete entry and replace with “Individuals seeking access to information about themselves contained in this system of records should address written inquiries to the DLA FOIA/Privacy Act Office, Headquarters, Defense Logistics Agency, ATTN: DGA, 8725 John J. Kingman Road, Suite 1644, Fort Belvoir, VA 22060-6221.

Inquiry should contain the subject individual's full name.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S375.20

System name:

Employee Relations under Negotiated Grievance Procedures.

System location:

Defense Logistics Agency Human Resources Center (DHRC), 8725 John J. Kingman Road, Suite 2533, Fort Belvoir, VA 22060-6221.

Defense Logistics Agency Human Resources Services, 3990 East Broad Street, Building 11, Section 3, Columbus, OH 43213-0919.

Defense Logistics Agency Human Resources Services, 2001 Mission Drive, Suite 3, New Cumberland, PA 17070-5042.

Defense Logistics Agency Human Resources Services-Department of Defense Customers, 3990 East Broad Street, Building 306, Columbus, OH 43218-1158.

Categories of individuals covered by the system:

Current and former civilian employees and applicants on who discipline, grievance, complaint or appeal records exist.

Categories of records in the system:

The file includes the subject individual's name, address and telephone numbers, and details pertaining to the discipline, grievance, complaint, or appeal.

Note: Equal Employment Opportunity (EEO) complaints filed under statutory Equal Employment Opportunity Commission procedures are covered under EEOC/GOVT-1, entitled Equal Employment Opportunity in the Federal Government Complaint and Appeal Records.

Authority for maintenance of the system:

Pub. L. 92-261; 5 U.S.C. Chapter 33, Examination, Selection, and Placement; 5 U.S.C. Chapter 75, Adverse Actions; 5 U.S.C. Chapter 71, Labor-Management Relations, and 29 U.S.C. Chap. 14, Age Discrimination Employment.

Purpose(s):

Records are used to process, administer and adjudicate discipline, grievance, complaints, and appeal actions. Records are also used for litigation and program evaluation purposes.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To representatives of the Office of Personnel Management (OPM) on matters relating to the inspection, survey, audit or evaluation of civilian personnel management programs or personnel actions, or such other matters under the jurisdiction of the OPM.

To appeal authorities for conducting hearings in connection with employee appeals from adverse actions and formal discrimination complaints.

The DoD “Blanket Routine Uses” apply to this system of records.

Policies and practices for storing, retrieving, accessing, retaining, and disposing of records in the system:

Storage:

Records may be stored on paper and/or on electronic storage media.

Retrievability:

Records are retrieved by the subject individual's name.

Safeguards:

Records are maintained in areas accessible only to DLA personnel who must access the records to perform their duties. The computer files are password protected with access restricted to authorized users. Records are secured in locked or guarded buildings, locked offices, or locked cabinets during non duty hours.

Retention and disposal:

Records are destroyed four years after case is closed.

System manager(s) and address:

Director, Defense Logistics Agency Human Resources, 8725 John J. Kingman Road, Suite 3630, Fort Belvoir, VA 22060-6221.

Director, Defense Logistics Agency Human Resources Services, 3990 East Broad Street, Building 11, Section 3, Columbus, OH 43213-0919.

Director, Defense Logistics Agency Human Resources Services, 2001 Mission Drive, Suite 3, New Cumberland, PA 17070-5042.

Director, Defense Logistics Agency Human Resources Services-Department of Defense Customers, 3990 East Broad Street, Building 306, Columbus, OH 43218-1158.

Notification procedure:

Individuals seeking to determine whether information about themselves is contained in this system of records should address written inquiries to the DLA FOIA/Privacy Act Office, Headquarters, Defense Logistics Agency, ATTN: DGA, 8725 John J. Kingman Road, Suite 1644, Fort Belvoir, VA 22060-6221.

Inquiry should contain the subject individual's full name.

Record access procedures:

Individuals seeking access to information about themselves contained in this system of records should address written inquiries to the DLA FOIA/Privacy Act Office, Headquarters, Defense Logistics Agency, ATTN: DGA, 8725 John J. Kingman Road, Suite 1644, Fort Belvoir, VA 22060-6221.

Inquiry should contain the subject individual's full name.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Supervisors or other appointed officials designated for this purpose, Human Resource specialists, and grievant.

Exemptions claimed for the system:

None.

[FR Doc. 2011-30631 Filed 11-28-11; 8:45 am]

BILLING CODE 5001-06-P